DEPARTMENT OF COMMERCE

National Oceanic and Atmospheric Administration

RIN 0648-XC914

Pacific Fishery Management Council (Pacific Council); Public Meetings

AGENCY: National Marine Fisheries Service (NMFS), National Oceanic and Atmospheric Administration, Commerce.

ACTION: Notice of public meetings.

SUMMARY: The Pacific Council and its advisory entities will hold public meetings.

DATES: The Pacific Council and its advisory entities will meet October 30-November 6, 2013. The Pacific Council meeting will begin on Friday, November 1, 2013 at 8 a.m., reconvening each day through Wednesday, November 6, 2013. All meetings are open to the public, except a closed session will be held at the end of the scheduled agenda on Friday, November 1 to address litigation and personnel matters. The Pacific Council will meet as late as necessary each day to complete its scheduled business.

ADDRESSES: Meetings of the Pacific Council and its advisory entities will be held at the Hilton Orange County Costa Mesa, 3050 Bristol Street, Costa Mesa, CA 92626; telephone: (714) 540-7000. Instructions for attending the meeting via live stream broadcast are given under SUPPLEMENTARY INFORMATION below.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The November 1-6, 2013 meeting of the Pacific Fishery Management Council will be streamed live on the internet. The live meeting will be broadcast daily starting at 8 a.m. Pacific Time (PT) beginning on Friday, November 1, 2013 through Wednesday, November 6, 2013. The broadcast will end daily at 6 p.m. PT or when business for the day is complete. Only the audio portion, and portions of the presentations displayed on the screen at the Council meeting, will be broadcast. The audio portion is listen-only; you will be unable to speak to the Council via the broadcast. Attend the broadcast meeting online by going to http://www.joinwebinar.com and entering the Webinar ID for November, which is 153-873-807, and then enter your email address as required. The audio and visual portions of the broadcast may be attended using a computer, tablet, or smart phone, using the GoToMeeting application. It is recommended that you use a computer headset to listen to the meeting, but if you do not have a headset or speakers, you may use your telephone for the audio portion of the meeting. The audio portion alone may be attended using a telephone by dialing the toll number 1-415-655-0057; phone audio access code 646-294-165 (not a toll-free number).

The following items are on the Pacific Council agenda, but not necessarily in this order.

A. Call to Order

1. Opening Remarks

2. Roll Call

3. Executive Director's Report

4. Approve Agenda

B. Open Comment Period

Comments on Non-Agenda Items

C. Salmon Management

1. National Marine Fisheries Service (NMFS) Report

2. 2014 Salmon Methodology Review

3. Preseason Salmon Management Schedule for 2014

D. Habitat

Current Habitat Issues

E. Coastal Pelagic Species Management

1. NMFS Report

2. 2014 Exempted Fishing Permit Notice of Intent

3. Establish Maximum Sustainable Yield Reverence Point for Northern Anchovy

4. 2014 Methodology Review Process and Preliminary Topic Selection

5. Pacific Sardine Stock Assessment and Management for 2014, Including Tribal Set-Aside

F. Enforcement Issues

Federal Enforcement Priorities and Other Enforcement Issues

G. Pacific Halibut Management

2014 Pacific Halibut Regulations

H. Groundfish Management

1. Seabird Avoidance Regulations

2. Exempted Fishing Permit

2. Sablefish Permit Stacking Program Review Scoping

3. Stock Complex Restructuring

4. Stock Assessments and Rebuilding Analyses

5. Biennial Harvest Specifications for 2015-2016 Groundfish Fisheries

6. Essential Fish Habitat (EFH) Review Phase 2 Report and Proposals to Modify EFH

7. Electronic Monitoring Alternatives

8. Consideration of Inseason Adjustments

9. Biennial Management Specifications for 2015-2016 Groundfish Fisheries

I. Administrative Matters

1. Regional Operating Agreement

2. Magnuson-Stevens Act Reauthorization Priorities and Other Legislative Matters

3. Approval of Council Meeting Minutes

4. Fiscal Matters

5. Advisory Body Position Appointments and Council Operating Procedures

6. Future Council Meeting Agenda and Workload Planning

Schedule of Ancillary Meetings
| Time
Wednesday, October 30, 2013:
Groundfish Tier 1 Environmental Impact Statement Ecosystem Workshop | 8 a.m.
Scientific and Statistical Groundfish and Ecosystem Subcommittees | 1 p.m.
Thursday, October 31, 2013:
Groundfish Management Team | 8 a.m.
Habitat Committee | 8 a.m.
Salmon Advisory Subpanel | 8 a.m.
Scientific and Statistical Committee | 8 a.m.
Legislative Committee | 9 a.m.
Budget Committee | 1 p.m.
Friday, November 1, 2013:
California State Delegation | 7 a.m.
Oregon State Delegation | 7 a.m.
Washington State Delegation | 7 a.m.
Coastal Pelagic Species Advisory Subpanel | 8 a.m.
Coastal Pelagic Species Management Team | 8 a.m.
Groundfish Management Team | 8 a.m.
Salmon Advisory Subpanel | 8 a.m.
Scientific and Statistical Committee | 8 a.m.
Groundfish Advisory Subpanel | 11 a.m.
Enforcement Consultants | 3 p.m.
Annual Awards Banquet | 6 p.m.
Saturday, November 2, 2013:
California State Delegation | 7 a.m.
Oregon State Delegation | 7 a.m.
Washington State Delegation | 7 a.m.
Coastal Pelagic Species Advisory Subpanel | 8 a.m.
Coastal Pelagic Species Management Team | 8 a.m.
Groundfish Advisory Subpanel | 8 a.m.
Groundfish Management Team | 8 a.m.
Enforcement Consultants | as Needed.
Sunday, November 3, 2013:
California State Delegation | 7 a.m.
Oregon State Delegation | 7 a.m.
Washington State Delegation | 7 a.m.
Groundfish Advisory Subpanel | 8 a.m.
Groundfish Management Team | 8 a.m.
Enforcement Consultants | as Needed.
Monday, November 4, 2013:
California State Delegation | 7 a.m.
Oregon State Delegation | 7 a.m.
Washington State Delegation | 7 a.m.
Groundfish Advisory Subpanel | 8 a.m.
Groundfish Management Team | 8 a.m.
Enforcement Consultants | as Needed.
NMFS Forage Fish Indicator Species Session | 6 p.m.
Tuesday, November 5, 2013:
California State Delegation | 7 a.m.
Oregon State Delegation | 7 a.m.
Washington State Delegation | 7 a.m.
Groundfish Advisory Subpanel | 8 a.m.
Groundfish Management Team | 8 a.m.
Enforcement Consultants | as Needed.
Wednesday, November 6, 2013:
California State Delegation | 7 a.m.
Oregon State Delegation | 7 a.m.
Washington State Delegation | 7 a.m.

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: September 30, 2013.
Tracey L. Thompson,
Acting Deputy Director, Office of Sustainable Fisheries, National Marine Fisheries Service.

[FR Doc. 2013-24310 Filed 10-3-13; 8:45 am]

BILLING CODE 3510-22-P